FEDERAL COMMUNICATIONS COMMISSION

47 CFR Part 73

[DA 01-218, MM Docket No. 00-183, RM-9959]

Digital Television Broadcast Service; Albany, NY

AGENCY: Federal Communications Commission.

ACTION: Final rule.

SUMMARY: The Commission, at the request of Hubbard Broadcasting Inc., licensee if station WNYT(TV), NTSC channel 13, substitutes DTV 12 for DTV channel 15 at Albany, New York. See 65 FR 59797, October 6, 2000. DTV channel 12 can be allotted to Albany in compliance with the principle community coverage requirements of Section 73.625(a) at reference coordinates (42-37-37 N. and 74-00-49 W.) with a power of 10.0, HAAT of 421 meters and with a DTV service population of 1394 thousand. With this action, this proceeding is terminated.

DATES: Effective March 19, 2001.

FOR FURTHER INFORMATION CONTACT: Pam Blumenthal, Mass Media Bureau, (202) 418-1600.

SUPPLEMENTARY INFORMATION: This is a synopsis of the Commission's Report and Order, MM Docket No. 00-183, adopted January 31, 2001, and released February 1, 2001. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under New York, is amended by removing DTV channel 15 and adding DTV channel 12 at Albany.

Federal Communications Commission.
Barbara A. Kreisman,
Chief, Video Services Division, Mass Media Bureau.

[FR Doc. 01-3014 Filed 2-5-01; 8:45 am]

BILLING CODE 6712-01-U